SURFACE TRANSPORTATION BOARD

60-Day Notice of Intent To Seek Approval for Information Collections: Joint Notice of Intent To Arbitrate and Notice of Availability for Arbitrator Roster

AGENCY: Surface Transportation Board.

ACTION: Notice and request for comments.

SUMMARY: As required by the Paperwork Reduction Act of 1995 (PRA), the Surface Transportation Board (STB or Board) gives notice of its intent to seek approval from the Office of Management and Budget (OMB) for an extension of the information collections of the Joint Notice of Intent to Arbitrate and Notice of Availability for Arbitrator Roster, as described separately below.

DATES: Comments on these information collections should be submitted by December 26, 2023.

ADDRESSES: Direct all comments to Chris Oehrle, Surface Transportation Board, 395 E Street SW, Washington, DC 20423-0001, or to PRA@stb.gov. When submitting comments, please refer to “Paperwork Reduction Act Comments, Arbitration Procedures under 49 CFR 1108.” For further information regarding this collection, contact Michael Higgins, Deputy Director, Office of Public Assistance, Governmental Affairs, and Compliance, at (202) 245-0284 or at RCPA@stb.gov. If you require an accommodation under the Americans with Disabilities Act, please call (202) 245-0245.

SUPPLEMENTARY INFORMATION: Comments are requested concerning: (1) the accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Information Collections

OMB Control Number: 2140-0038.

Information Collection 1

Title: Joint Notice of Intent to Arbitrate.

STB Form Number: None.

Type of Review: Extension without change.

Respondents: Parties seeking to submit to arbitration certain matters before the Board.

Number of Respondents: One.

Estimated Time per Response: One hour.

Frequency: On occasion.

Total Burden Hours (annually including all respondents): One hour.

Total “Non-hour Burden” Cost: None identified. Filings are submitted electronically to the Board.

Needs and Uses: Under 49 CFR 1108.5, arbitration commences with a written complaint that contains a statement that the relevant parties are participants in the Board's arbitration program, or that the complainant is willing to arbitrate the dispute pursuant to the Board's arbitration procedures. The respondent's answer to the written complaint must then indicate the respondent's participation in the Board's arbitration program or its willingness to arbitrate the dispute at hand pursuant to the Board's arbitration procedures.

As an alternative to filing a written complaint, parties may submit a joint notice to the Board, indicating the consent of both parties to submit an issue in dispute to the Board's arbitration program. In the joint notice, parties state the issue(s) that they are willing to submit to arbitration. The notice must contain a statement that would indicate that all relevant parties are participants in the Board's arbitration program pursuant to 1108.3(a), or that the relevant parties are willing to arbitrate voluntarily a matter pursuant to the Board's arbitration procedures, and the relief requested. The notice must also indicate whether parties have agreed to a three-member arbitration panel or a single arbitrator and must indicate whether the parties have mutually agreed to a lower amount of potential liability in lieu of the monetary award cap that would otherwise be applicable. The joint notice encourages greater use of arbitration to resolve disputes at the Board.

Information Collection 2

Title: Notice of Availability for Arbitrator Roster.

STB Form Number: None.

Type of Review: Extension without change.

Respondents: Potential arbitrators.

Number of Respondents: 23.

Estimated Time per Response: One hour.

Frequency: Annually.

Total Burden Hours (annually including all respondents): 23 hours.

Total “Non-hour Burden” Cost: None identified. Filings are submitted electronically to the Board.

Needs and Uses: Under 49 CFR 1108.6(b), an arbitration roster is compiled by the Chairman, and potential interested, qualified persons who wish to be placed on the Board's arbitration roster must submit notice of their availability to be added to the roster. The Chairman may augment the roster at any time to include eligible arbitrators and remove from the roster any arbitrators who are no longer available or eligible. Potential arbitrators must also update their availability and information annually, if they wish to remain available for the arbitration roster. The arbitration rosters are available to the public on the Board's website at https://www.stb.gov/resources/litigation-alternatives/arbitration/#arbitration-procedures.

The Board makes this submission because, under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: October 20, 2023.
Eden Besera,
Clearance Clerk.

[FR Doc. 2023-23600 Filed 10-24-23; 8:45 am]

BILLING CODE 4915-01-P